DEPARTMENT OF THE INTERIOR

National Park Service

[NPS-WASO-NAGPRA-NPS0029916; PPWOCRADN0-PCU00RP14.R50000]

Notice of Inventory Completion: Pueblo Grande Museum, Phoenix, AZ

AGENCY: National Park Service, Interior.

ACTION: Notice.

SUMMARY: The Pueblo Grande Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Pueblo Grande Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Pueblo Grande Museum at the address in this notice by April 22, 2020.

ADDRESSES: Lindsey Vogel-Teeter, Pueblo Grande Museum, 4619 E Washington Street, Phoenix, AZ 85034, telephone (602) 534-1572, email lindsey.vogel-teeter@phoenix.gov.

SUPPLEMENTARY INFORMATION: Notice is here given in accordance with the Native American Graves Protection and Repatriation Act (NAGPRA), 25 U.S.C. 3003, of the completion of an inventory of human remains and associated funerary objects under the control of the Pueblo Grande Museum, Phoenix, AZ. The human remains and associated funerary objects were removed from AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Pueblo Grande Museum professional staff in consultation with representatives of the Hopi Tribe of Arizona; Pueblo of Acoma, New Mexico; and the Zuni Tribe of the Zuni Reservation, New Mexico (hereafter referred to as “The Tribes”).

History and Description of the Remains

At an unknown date, prior to 1967, human remains representing, at minimum, four individuals were removed from an unknown site identified as “Sheep's Crossing” in Arizona. In 1967, the human remains were documented at Pueblo Grande Museum. In 1995, additional human remains with the same catalog number were found in Pueblo Grande Museum storage. In 2006, additional human remains with the same catalog number were found at residence of former Pueblo Grande Museum Director Don Hiser. The human remains range from complete to partial in preservation, and belong to an elderly adult female, a possible adult male, and two adult individuals of indeterminant sex. No known individuals were identified. The 11 associated funerary objects include one lot lithics, one shell bracelet fragment, one lot shell, one lot Tularosa and Reserve Black-on-white sherds, one Cibola whiteware sherd, two lots brown ware sherds, one unidentified glaze ware sherd, one polychrome sherd, one lot Tularosa style red-on-white sherds, and one lot faunal bone. Based on the associated funerary object types, these human remains are likely Ancestral Pueblo.

At an unknown date, likely in the 1900s, human remains representing, at minimum, four individuals, were removed from an unidentified site along Highway 87 between Payson and Winslow in Coconino, Gila, or Navajo County, AZ. Sometime prior to 1995, these human remains and associated funerary objects were transferred to Pueblo Grande Museum, and were identified during a Museum collection inventory. The partial human remains include skulls and isolated teeth. They represent four individuals: A young adult female, an infant of indeterminant sex, an adult of indeterminant sex, and a young-to-middle aged adult of indeterminant sex. No known individuals were identified. The three associated funerary objects include one St. John's black-on-red sherd, one corrugated sherd, and one black-on-white sherd. Based on the associated funerary object types and geographic location, these human remains are likely Ancestral Pueblo.

Cultural affiliation between Ancestral Pueblo and modern-day Pueblo tribes is demonstrated by geographic, historical, architectural, and oral traditional evidence. These Tribes include the Pueblo of Acoma, New Mexico and the Zuni Tribe of the Zuni Reservation, New Mexico.

The Hopi Tribe of Arizona considers all of Arizona to be within traditional Hopi lands or within areas where Hopi clans migrated in the past. Oral traditions and material culture demonstrate continuity between the prehistoric Ancestral Pueblo people and the Hopi people.

Determinations Made by the Pueblo Grande Museum

Officials of the Pueblo Grande Museum have determined that:

• Pursuant to 25 U.S.C. 3001(9), the human remains described in this notice represent the physical remains of eight individuals of Native American ancestry.

• Pursuant to 25 U.S.C. 3001(3)(A), the 14 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Lindsey Vogel-Teeter, Pueblo Grande Museum, 4619 E. Washington Street, Phoenix, AZ 85034, telephone (602) 534-1572, email lindsey.vogel-teeter@phoenix.gov, by April 22, 2020. After that date, if no additional requestors have come forward, transfer of control of the human remains and associated funerary objects to The Tribes may proceed.

The Pueblo Grande Museum is responsible for notifying The Tribes that this notice has been published.

Dated: February 21, 2020.
Melanie O'Brien,
Manager, National NAGPRA Program.

[FR Doc. 2020-06033 Filed 3-20-20; 8:45 am]

BILLING CODE 4312-52-P